DEPARTMENT OF COMMERCE

National Oceanic and Atmospheric Administration

50 CFR Part 679

[Docket No. 09100091344-9056-02]

RIN 0648-XQ51

Fisheries of the Exclusive Economic Zone Off Alaska; Pacific Ocean Perch in the West Yakutat District of the Gulf of Alaska

AGENCY: National Marine Fisheries Service (NMFS), National Oceanic and Atmospheric Administration (NOAA), Commerce.

ACTION: Temporary rule; closure.

SUMMARY: NMFS is prohibiting directed fishing for Pacific ocean perch by catcher processors participating in the limited access or opt-out fisheries that are subject to sideboard limits established under the Central Gulf of Alaska (GOA) Rockfish Pilot Program (RPP) in the Western Yakutat District of the GOA. This action is necessary to prevent exceeding the 2009 sideboard limits of Pacific ocean perch established for catcher processors participating in the limited access or opt-out fisheries in the Western Regulatory Area of the GOA.

DATES: Effective 1200 hrs, Alaska local time (A.l.t.), July 22, 2009, through 1200 hrs, A.l.t., July 31, 2009.

FOR FURTHER INFORMATION CONTACT: Steve Whitney, 907-586-7269.

SUPPLEMENTARY INFORMATION: NMFS manages the groundfish fishery in the GOA exclusive economic zone according to the Fishery Management Plan for Groundfish of the Gulf of Alaska (FMP) prepared by the North Pacific Fishery Management Council under authority of the Magnuson-Stevens Fishery Conservation and Management Act. Regulations governing fishing by U.S. vessels in accordance with the FMP appear at subpart H of 50 CFR part 600 and 50 CFR part 679.

The 2009 Pacific ocean perch sideboard limit established for catcher processors participating in the limited access or opt-out fisheries that are subject to sideboard limits in the RPP in the West Yakutat District is 727 metric tons (mt). The sideboard limit is established by the final 2009 and 2010 harvest specifications for groundfish of the GOA (74 FR 7333, February 17, 2009) and as posted as the 2009 Rockfish Program Catcher Processor Sideboards at

http://alaskafisheries.noaa.gov/sustainablefisheries/goarat/default.htm.

In accordance with § 679.82(d)(7)(i)(A), the Administrator, Alaska Region, NMFS (Regional Administrator) has determined that the 2009 Pacific ocean perch sideboard limit established for catcher processors participating in the limited access or opt-out fisheries in the West Yakutat District of the GOA has been reached. The Regional Administrator is establishing the full sideboard limit as a directed fishing allowance of 727 mt, because no other groundfish fisheries are anticipated that would require a set aside of Pacific ocean perch as bycatch. Consequently, pursuant to § 679.82(d)(7)(ii) NMFS is prohibiting directed fishing for Pacific ocean perch by vessels subject to the sideboard sideboard limit established for catcher processors participating in the limited access or opt-out fisheries in the West Yakutat District.

After the effective date of this closure the maximum retainable amounts at § 679.20(e) and (f) apply at any time during a trip.

Classification

This action responds to the best available information recently obtained from the fishery. The Assistant Administrator for Fisheries, NOAA, (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the closure of Pacific ocean perch sideboard limit for catcher processors participating in the limited access or opt-out fisheries in the Western Regulatory Area. NMFS was unable to publish a notice providing time for public comment because the most recent, relevant data only became available as of July 21, 2009.

The AA also finds good cause to waive the 30-day delay in the effective date of this action under 5 U.S.C. 553(d)(3). This finding is based upon the reasons provided above for waiver of prior notice and opportunity for public comment.

This action is required by § 679.82 and is exempt from review under Executive Order 12866.

Authority: 16 U.S.C. 1801 et seq.

Dated: July 22, 2009.
James P. Burgess,
Acting Director, Office of Sustainable Fisheries, National Marine Fisheries Service.

[FR Doc. E9-17835 Filed 7-22-09; 4:15 pm]

BILLING CODE 3510-22-S